FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection systems described below.

DATES: Comments must be submitted on or before March 15, 2004.

ADDRESSES: Information about this submission, including copies of the proposed collections of information, may be obtained by calling or writing the FDIC contact listed below.

• Mail: Steve Hanft, Paperwork Clearance Officer, (202) 898-3907, Legal Division, Room MB-3046, Federal Deposit Insurance Corporation, 550 17th Street NW, Washington, DC 20429. All comments should refer to the OMB control number.

Joseph Lackey, FDIC OMB Desk Officer, Office of Information and Regulatory Affairs, Office of Management and Budget, New Executive Office Building, Room 10236, Washington, DC 20503.

• Hand Delivery: Guard station at the rear of the 17th Street Building (located on F Street), on business days between 7 a.m. and 5 p.m.

FOR FURTHER INFORMATION CONTACT: Steve Hanft, at the address identified above.

SUPPLEMENTARY INFORMATION:

Proposal To Renew the Following Three Currently Approved Collections of Information

1. Title: Application for a Bank to Establish a Branch or Move its Main Office or Branch.

OMB Number: 3064-0070.

Frequency of Response: On occasion.

Affected Public: Insured financial institutions.

Estimated Number of Respondents: 1,540.

Estimated Time per Response: 5 hours.

Total Annual Burden: 7,700 hours.

General Description of Collection: Insured State nonmember banks are required by law to obtain the FDIC's prior written consent before they can establish and operate any new domestic branch or move their main office or any branch from one location to another.

2. Title: Application for Consent to Reduce or Retire Capital.

OMB Number: 3064-0079.

Frequency of Response: On occasion.

Affected Public: Insured State nonmember banks.

Estimated Number of Respondents: 80.

Estimated Time per Response: 1 hour.

Total Annual Burden: 80 hours.

General Description of Collection: Insured state nonmember banks that propose to change their capital structure must apply for and obtain FDIC's consent to reduce or retire capital.

3. Title: Activities and Investments of Savings Associations.

OMB Number: 3064-0104.

Frequency of Response: On occasion.

Affected Public: Insured savings associations.

Estimated Number of Responses: 75.

Estimated Time per Response: 5 hours.

Total Annual Burden: 375 hours.

General Description of Collection: This collection of information is an application submitted by savings associations to the FDIC as part of the process of obtaining exceptions to the restrictions on the powers of savings associations. The restrictions reduce the risk of loss to the deposit insurance funds and eliminate some differences between the powers of state associations and those of federal associations.

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 13th day of January, 2004.
Federal Deposit Insurance Corporation.
Robert E. Feldman,
Executive Secretary.

[FR Doc. 04-978 Filed 1-15-04; 8:45 am]

BILLING CODE 6714-01-P